ENVIRONMENTAL PROTECTION AGENCY

[FRL-7270-2]

Agency Information Collection Activities: Submission for OMB Review; Comment Request; NSPS for Iron and Steel Plants: Basic Oxygen Process Furnaces

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS for Iron and Steel Plants: Basic Oxygen Process Furnaces (40 CFR part 60, subparts N and Na); OMB Control Number 2060-0029; EPA ICR Number 1069.07; expiration date September 30, 2002. The ICR describes the nature of the information collection and its expected burden and cost; where appropriate, it includes the actual data collection instrument.

DATES: Comments must be submitted on or before September 30, 2002.

ADDRESSES: Send comments, referencing EPA ICR Number 1069.07 and OMB Control Number 2060-0029 to the following addresses: Susan Abby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR, contact Susan Abby at EPA by phone at: (202) 566-1672; by E-mail at auby.susan@epa.gov; or download off the Internet at: http://www.epa.gov/icr and refer to EPA ICR. For technical questions about the ICR, contact María Malavé in the Office of Compliance at: (202) 564-7027, or via E-mail at malave.maria@epa.gov.

SUPPLEMENTARY INFORMATION: Title: NSPS for Iron and Steel Plants: Basic Oxygen Process Furnaces (40 CFR part 60, subparts N and Na); OMB Control Number 2060-0029; EPA ICR Number 1069.07; expiring September 30, 2002. This is a request for extension of a currently approved collection.

Abstract: The New Source Performance Standards (NSPS) for Primary Emissions from Basic Oxygen Process Furnaces (BOPF) (40 CFR part 60, subpart N) were proposed on June 11, 1973, and promulgated on March 8, 1974. On January 20, 1983, amendments to the Standards of Performance for Primary Emissions from Basic Oxygen Process Furnaces, merged with Standards of Performance for Secondary Emissions from Basic Oxygen Process Steelmaking Facilities (40 CFR part 60, subpart Na). Subpart Na is applicable to any top-blown BOPF, hot metal transfer station or skimming station for which construction, reconstruction, or modification commenced after January 20, 1983.

Owners and operators of affected sources are subject to the monitoring, recordkeeping and reporting requirements of 40 CFR part 60, subpart A, the General Provisions, unless specified otherwise in the regulation. Owners or operators of the affected facilities described must make one-time-only notifications. Owners or operators are also required to maintain records of the occurrence and duration of any startup, shutdown, or malfunction in the operation of an affected facility, or any period during which the monitoring system is inoperative. Monitoring requirements specific to BOPF shops subject to NSPS subparts N and Na provide information on the operation of the emissions control device and compliance with the mass and visible emission standards. Semiannual reports of measurements that average 10 percent below the average measurements obtained during the most recent performance tests are required. These notifications, reports, and records are essential in determining compliance; and are required, in general, of all sources subject to NSPS.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on October 29, 2001. No comments were received.

Burden Statement: The annual public reporting and recordkeeping burden for this collection of information is estimated to average 101 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Basic oxygen process furnace shops at iron and steel plants/furnaces, skimming stations and/or hot metal transfer stations.

Estimated Annual Number of Respondents: 4.

Frequency of Response: On occasion and semiannual.

Estimated Total Annual Hour Burden: 1,012 hours.

Estimated Total Annualized Capital and O&M Cost Burden: $25,794.

Send comments on the Agency's need for this information, the accuracy of the provided burden estimates, and any suggested methods for minimizing respondent burden, including through the use of automated collection techniques to the addresses listed above. Please refer to OMB Control Number 2060-0029 and EPA ICR Number 1069.07 in any correspondence.

Dated: August 21, 2002.
Oscar Morales,
Director, Collection Strategies Division.

[FR Doc. 02-22234 Filed 8-29-02; 8:45 am]

BILLING CODE 6560-50-P